DEPARTMENT OF ENERGY

Federal Energy Regulatory Commission

Combined Notice of Filings #1

Take notice that the Commission received the following exempt wholesale generator filings:

Docket Numbers: EG23-111-000.

Applicants: Westlake Chemicals & Vinyls LLC.

Description: Westlake Chemicals & Vinyls LLC submits Notice of Self-Certification of Exempt Wholesale Generator Status.

Filed Date: 3/29/23.

Accession Number: 20230329-5190.

Comment Date: 5 p.m. ET 4/19/23.

Take notice that the Commission received the following electric rate filings:

Docket Numbers: ER23-754-001.

Applicants: PacifiCorp.

Description: Compliance filing: Revisions to GIP re Electric Storage Resources Compliance to be effective 3/1/2023.

Filed Date: 3/29/23.

Accession Number: 20230329-5180.

Comment Date: 5 p.m. ET 4/19/23.

Docket Numbers: ER23-1010-001.

Applicants: PJM Interconnection, L.L.C.

Description: Tariff Amendment: Amendment to Service Agreement No. 3756, Queue#None to be effective 4/2/2023.

Filed Date: 3/29/23.

Accession Number: 20230329-5210.

Comment Date: 5 p.m. ET 4/19/23.

Docket Numbers: ER23-1030-001.

Applicants: Basin Electric Power Cooperative.

Description: Tariff Amendment: Basin Electric Submission of Amendment to Extend Time for Action in ER23-1030 to be effective 11/29/2022.

Filed Date: 3/29/23.

Accession Number: 20230329-5108.

Comment Date: 5 p.m. ET 4/19/23.

Docket Numbers: ER23-1304-000.

Applicants: MFT Energy US 1 LLC.

Description: Supplement to March 10, 2023, MFT Energy US 1 LLC tariff filing.

Filed Date: 3/24/23.

Accession Number: 20230324-5203.

Comment Date: 5 p.m. ET 4/14/23.

Docket Numbers: ER23-1493-000.

Applicants: RWE Clean Energy Wholesale Services, Inc.

Description: § 205(d) Rate Filing: Notice of Succession for RWE Clean Energy Wholesale to be effective 3/30/2023.

Filed Date: 3/29/23.

Accession Number: 20230329-5073.

Comment Date: 5 p.m. ET 4/19/23.

Docket Numbers: ER23-1494-000.

Applicants: RWE Clean Energy Solutions, Inc.

Description: § 205(d) Rate Filing: Notice of Succession for RWE Clean Energy Solutions to be effective 3/30/2023.

Filed Date: 3/29/23.

Accession Number: 20230329-5077.

Comment Date: 5 p.m. ET 4/19/23.

Docket Numbers: ER23-1495-000.

Applicants: SEP II, LLC.

Description: § 205(d) Rate Filing: Notice of Succession for SEP II, LLC to be effective 3/30/2023.

Filed Date: 3/29/23.

Accession Number: 20230329-5085.

Comment Date: 5 p.m. ET 4/19/23.

Docket Numbers: ER23-1496-000.

Applicants: GSG Wind, LLC.

Description: Compliance filing: Notice of Succession and Revised Reactive Service Rate Schedule to be effective 3/30/2023.

Filed Date: 3/29/23.

Accession Number: 20230329-5112.

Comment Date: 5 p.m. ET 4/19/23.

Docket Numbers: ER23-1497-000.

Applicants: GSG Wind, LLC.

Description: Compliance filing: Notice of Succession and Revised Market-Based Rate Tariff to be effective 3/30/2023.

Filed Date: 3/29/23.

Accession Number: 20230329-5115.

Comment Date: 5 p.m. ET 4/19/23.

Docket Numbers: ER23-1498-000.

Applicants: Iron Horse Battery Storage, LLC.

Description: § 205(d) Rate Filing: Changes in Category Status and Notices of Succession to be effective 3/30/2023.

Filed Date: 3/29/23.

Accession Number: 20230329-5119.

Comment Date: 5 p.m. ET 4/19/23.

Docket Numbers: ER23-1499-000.

Applicants: RWE Clean Energy O&M, LLC.

Description: § 205(d) Rate Filing: Changes in Category Status and Notices of Succession to be effective 3/30/2023.

Filed Date: 3/29/23.

Accession Number: 20230329-5122.

Comment Date: 5 p.m. ET 4/19/23.

Docket Numbers: ER23-1500-000.

Applicants: RWE Clean Energy QSE, LLC.

Description: § 205(d) Rate Filing: Changes in Category Status and Notices of Succession to be effective 3/30/2023.

Filed Date: 3/29/23.

Accession Number: 20230329-5125.

Comment Date: 5 p.m. ET 4/19/23.

Docket Numbers: ER23-1501-000.

Applicants: RWE Supply & Trading Americas, LLC.

Description: § 205(d) Rate Filing: Changes in Category Status and Notices of Succession to be effective 3/30/2023.

Filed Date: 3/29/23.

Accession Number: 20230329-5128.

Comment Date: 5 p.m. ET 4/19/23.

Docket Numbers: ER23-1502-000.

Applicants: RWE Supply & Trading US, LLC.

Description: § 205(d) Rate Filing: Changes in Category Status and Notices of Succession to be effective 3/30/2023.

Filed Date: 3/29/23.

Accession Number: 20230329-5130.

Comment Date: 5 p.m. ET 4/19/23.

Docket Numbers: ER23-1503-000.

Applicants: Cavalier Solar A, LLC.

Description: Baseline eTariff Filing: Cavalier Solar A, LLC MBR Tariff to be effective 5/1/2023.

Filed Date: 3/29/23.

Accession Number: 20230329-5131.

Comment Date: 5 p.m. ET 4/19/23.

Docket Numbers: ER23-1504-000.

Applicants: Partin Solar LLC.

Description: Baseline eTariff Filing: Application for Market Based Rate Authority to be effective 5/1/2023.

Filed Date: 3/29/23.

Accession Number: 20230329-5132.

Comment Date: 5 p.m. ET 4/19/23.

Docket Numbers: ER23-1505-000.

Applicants: Midcontinent Independent System Operator, Inc., City Water and Light Plant of the City of Jonesboro.

Description: § 205(d) Rate Filing: Midcontinent Independent System Operator, Inc. submits tariff filing per 35.13(a)(2)(iii: 2023-03-29_Jonesboro Integration Revisions to Schedules 7, 8, and 9 to be effective 6/1/2023.

Filed Date: 3/29/23.

Accession Number: 20230329-5133.

Comment Date: 5 p.m. ET 4/19/23.

Docket Numbers: ER23-1506-000.

Applicants: Midcontinent Independent System Operator, Inc., City Water and Light Plant of the City of Jonesboro.

Description: § 205(d) Rate Filing: Midcontinent Independent System Operator, Inc. submits tariff filing per 35.13(a)(2)(iii: 2023-03-29_EAL-AECC Amended JPZ Agreement inclusion of Jonesboro to be effective 6/1/2023.

Filed Date: 3/29/23.

Accession Number: 20230329-5134.

Comment Date: 5 p.m. ET 4/19/23.

Docket Numbers: ER23-1507-000.

Applicants: PJM Interconnection, L.L.C.

Description: Tariff Amendment: Notice of Cancellation of WMPA, SA No. 4099, Queue No. X1-087 to be effective 3/31/2023.

Filed Date: 3/29/23.

Accession Number: 20230329-5175.

Comment Date: 5 p.m. ET 4/19/23.

Docket Numbers: ER23-1508-000.

Applicants: PacifiCorp.

Description: § 205(d) Rate Filing: OATT Reconciliation and Clean-up Filing to be effective 3/1/2023.

Filed Date: 3/29/23.

Accession Number: 20230329-5183.

Comment Date: 5 p.m. ET 4/19/23.

Docket Numbers: ER23-1509-000.

Applicants: PJM Interconnection, L.L.C.

Description: Tariff Amendment: Notice of Cancellation of ISAs, SA Nos. 4122, 4125, 4126, 4129 and 4130 to be effective 4/1/2023.

Filed Date: 3/29/23.

Accession Number: 20230329-5184.

Comment Date: 5 p.m. ET 4/19/23.

Docket Numbers: ER23-1510-000.

Applicants: New York Independent System Operator, Inc., Niagara Mohawk Power Corporation.

Description: § 205(d) Rate Filing: New York Independent System Operator, Inc. submits tariff filing per 35.13(a)(2)(iii: NYISO-National Grid Joint 205: Amended SGIA Regan Solar Project SA2574 to be effective 3/15/2023.

Filed Date: 3/29/23.

Accession Number: 20230329-5191.

Comment Date: 5 p.m. ET 4/19/23.

Take notice that the Commission received the following public utility holding company filings:

Docket Numbers: PH23-8-000.

Applicants: Public Sector Pension Investment Board.

Description: Public Sector Pension Investment Board submits FERC 65-A Exemption Notification.

Filed Date: 3/28/23.

Accession Number: 20230328-5291.

Comment Date: 5 p.m. ET 4/18/23.

Docket Numbers: PH23-9-000.

Applicants: Public Sector Pension Investment Board.

Description: Public Sector Pension Investment Board submits FERC 65-B Notice of Non-Material Change in Fact to Waiver Notification.

Filed Date: 3/28/23.

Accession Number: 20230328-5292.

Comment Date: 5 p.m. ET 4/18/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 29, 2023.
Debbie-Anne A. Reese,
Deputy Secretary.

[FR Doc. 2023-06984 Filed 4-3-23; 8:45 am]

BILLING CODE 6717-01-P